DEPARTMENT OF ENERGY

Federal Energy Regulatory Commission

Combined Notice of Filings #1

Take notice that the Commission received the following electric corporate filings:

Docket Numbers: EC20-16-000.

Applicants: MidAmerican Energy Company.

Description: Application for Authorization Under Section 203 of the Federal Power Act, et al. of MidAmerican Energy Company.

Filed Date: 11/15/19.

Accession Number: 20191115-5205.

Comments Due: 5 p.m. ET 12/6/19.

Docket Numbers: EC20-17-000.

Applicants: Traverse Wind Energy LLC, Maverick Wind Project, LLC, Sundance Wind Project, LLC, Public Service Company of Oklahoma, Southwestern Electric Power Company.

Description: Joint Application for Authorization Under Section 203 of the Federal Power Act, et al. of Traverse Wind Energy LLC, et al.

Filed Date: 11/15/19.

Accession Number: 20191115-5224.

Comments Due: 5 p.m. ET 12/6/19.

Take notice that the Commission received the following exempt wholesale generator filings:

Docket Numbers: EG20-34-000.

Applicants: Invenergy Wilkinson Solar Holdings LLC.

Description: Notice of Self-Certification of Exempt Wholesale Generator Status of Invenergy Wilkinson Solar Holdings LLC.

Filed Date: 11/18/19.

Accession Number: 20191118-5128.

Comments Due: 5 p.m. ET 12/9/19.

Take notice that the Commission received the following electric rate filings:

Docket Numbers: ER10-2718-033.

Applicants: Cogen Technologies Linden Venture, L.P.

Description: Notice of Non-Material Change in Status of Cogen Technologies Linden Venture, L.P.

Filed Date: 11/15/19.

Accession Number: 20191115-5200.

Comments Due: 5 p.m. ET 12/6/19.

Docket Numbers: ER11-1858-008.

Applicants: NorthWestern Corporation.

Description: Supplement to June 28, 2019 Triennial Market Power Analysis for the Northwest Region of NorthWestern Corporation.

Filed Date: 11/18/19.

Accession Number: 20191118-5040.

Comments Due: 5 p.m. ET 12/9/19.

Docket Numbers: ER17-801-007.

Applicants: Constellation Power Source Generation, LLC.

Description: Compliance filing: Reactive Service Rate Schedule Compliance Filings to be effective 3/1/2017.

Filed Date: 11/18/19.

Accession Number: 20191118-5088.

Comments Due: 5 p.m. ET 12/9/19.

Docket Numbers: ER17-802-007.

Applicants: Exelon Generation Company, LLC.

Description: Compliance filing: Reactive Service Rate Schedule Compliance Filings to be effective 8/27/2017.

Filed Date: 11/18/19.

Accession Number: 20191118-5093.

Comments Due: 5 p.m. ET 12/9/19.

Docket Numbers: ER17-803-004.

Applicants: Handsome Lake Energy, LLC.

Description: Compliance filing: Reactive Service Rate Schedule Compliance Filings to be effective 4/10/2017.

Filed Date: 11/18/19.

Accession Number: 20191118-5129.

Comments Due: 5 p.m. ET 12/9/19.

Docket Numbers: ER17-2175-001.

Applicants: Susquehanna Nuclear, LLC.

Description: Compliance filing: Informational Filing to be effective N/A.

Filed Date: 11/18/19.

Accession Number: 20191118-5073.

Comments Due: 5 p.m. ET 12/9/19.

Docket Numbers: ER18-406-002.

Applicants: Brunner Island, LLC.

Description: Compliance filing: Informational Filing to be effective N/A.

Filed Date: 11/18/19.

Accession Number: 20191118-5061.

Comments Due: 5 p.m. ET 12/9/19.

Docket Numbers: ER18-2254-002.

Applicants: MC Project Company LLC.

Description: Compliance filing: Informational Filing to be effective N/A.

Filed Date: 11/18/19.

Accession Number: 20191118-5070.

Comments Due: 5 p.m. ET 12/9/19.

Docket Numbers: ER19-2669-001.

Applicants: Southwest Power Pool, Inc.

Description: Tariff Amendment: Deficiency Response in ER19-2669—Financial Security for System Upgrades to be effective 10/20/2019.

Filed Date: 11/18/19.

Accession Number: 20191118-5082.

Comments Due: 5 p.m. ET 12/9/19.

Docket Numbers: ER20-28-001.

Applicants: MidAmerican Energy Company.

Description: Tariff Amendment: Amendment of Pending Tariff Filing in ER20-28 to be effective 11/1/2019.

Filed Date: 11/18/19.

Accession Number: 20191118-5043.

Comments Due: 5 p.m. ET 12/9/19.

Docket Numbers: ER20-217-001.

Applicants: GridLiance West LLC.

Description: Tariff Amendment: GLW TRBAA Amendment Filing 2020 to be effective 1/1/2020.

Filed Date: 11/18/19.

Accession Number: 20191118-5001.

Comments Due: 5 p.m. ET 12/2/19.

Docket Numbers: ER20-394-000.

Applicants: ISO New England Inc., New England Power Pool Participants Committee.

Description: § 205(d) Rate Filing: IS0-NE & NEPOOL; Changes to ISO-NE Financial Assurance Policy: Trading FA to be effective 1/15/2020.

Filed Date: 11/15/19.

Accession Number: 20191115-5187.

Comments Due: 5 p.m. ET 12/6/19.

Docket Numbers: ER20-395-000.

Applicants: ISO New England Inc.

Description: § 205(d) Rate Filing: ISO New England; Changes to ISO-NE Financial Assurance Policy: Net CONE to be effective 1/15/2020.

Filed Date: 11/15/19.

Accession Number: 20191115-5188.

Comments Due: 5 p.m. ET 12/6/19.

Docket Numbers: ER20-396-000.

Applicants: Evergy Kansas Central, Inc.

Description: § 205(d) Rate Filing: Revisions, Full Requirements Electric Svc Agreements & Tariff to be effective 6/28/2018.

Filed Date: 11/18/19.

Accession Number: 20191118-5060.

Comments Due: 5 p.m. ET 12/9/19.

Docket Numbers: ER20-397-000.

Applicants: Duke Energy Florida, LLC.

Description: § 205(d) Rate Filing: DEF-Vandolah LGIA/FMPA NITSA (FRCC Revisions) to be effective 11/1/2019.

Filed Date: 11/18/19.

Accession Number: 20191118-5096.

Comments Due: 5 p.m. ET 12/9/19.

Docket Numbers: ER20-398-000.

Applicants: California Independent System Operator Corporation.

Description: § 205(d) Rate Filing: 2019-11-18 CRR Exchange Agreement with TANC to be effective 2/1/2020.

Filed Date: 11/18/19.

Accession Number: 20191118-5154.

Comments Due: 5 p.m. ET 12/9/19.

Take notice that the Commission received the following qualifying facility filings:

Docket Numbers: QF20-293-000.

Applicants: UE-00801MD LLC.

Description: Form 556 of UE-00801MD LLC.

Filed Date: 11/15/19.

Accession Number: 20191115-5221.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2019.
Nathaniel J. Davis, Sr.,
Deputy Secretary.

[FR Doc. 2019-25397 Filed 11-21-19; 8:45 am]

BILLING CODE 6717-01-P